DEPARTMENT OF THE INTERIOR

Bureau of Land Management

[MT-060-01-1020-PG]

Notice of Public Meeting; Central Montana Resource Advisory Council

AGENCY: Bureau of Land Management, Interior.

ACTION: Notice of public meeting.

SUMMARY: In accordance with the Federal Land Policy and Management Act and the Federal Advisory Committee Act of 1972, the U.S. Department of the Interior, Bureau of Land Management (BLM) Central Montana Resource Advisory Council (RAC) will meet as indicated below.

DATES: The meeting will be held January 10 and 11, 2006, at the Bureau of Land Management's Lewistown Field Office in Lewistown, Montana (920 NE Main, in Lewistown, Montana).

The January 10, meeting will begin at 9 a.m. with a 60-minute public comment period. This meeting is scheduled to adjourn at 6 p.m.

The January 11, meeting will begin at 8 a.m. with a 60-minute public comment period. This meeting is scheduled to adjourn at 3 p.m.

SUPPLEMENTARY INFORMATION: This 15-member council advises the Secretary of the Interior on a variety of management issues associated with public land management in Montana. At this meeting the council will discuss/act upon:

The minutes of their proceeding meeting;

Orientation of new council members;

Field managers' updates;

An overview of the draft monument resource management plan; and

Administrative details.

All meetings are open to the public. The public may present written comments to the RAC. Each formal RAC meeting will also have time allocated for hearing public comments. Depending on the number of persons wishing to comment and time available, the time for individual oral comments may be limited.

FOR FURTHER INFORMATON CONTACT: June Bailey, Lewistown Field Manager, Lewistown Field Office, P.O. Box 1160, Lewistown, Montana 59457, 406/538-1900.

Dated: December 13, 2005.
June Bailey,
Lewistown Field Manager.

[FR Doc. E5-7495 Filed 12-16-05; 8:45 am]

BILLING CODE 4310-??-P